DEPARTMENT OF COMMERCE

International Trade Administration

[A-570-981, A-552-814, C-570-982]

Utility Scale Wind Towers From the People's Republic of China and the Socialist Republic of Vietnam: Continuation of Antidumping Duty Orders and Countervailing Duty Order

AGENCY: Enforcement and Compliance, International Trade Administration, Department of Commerce.

SUMMARY: As a result of the determinations by the U.S. Department of Commerce (Commerce) and the U.S. International Trade Commission (ITC) that revocation of the antidumping duty (AD) order and countervailing duty (CVD) order on utility scale wind towers (wind towers) from the People's Republic of China (China) and the AD order on wind towers from the Socialist Republic of Vietnam (Vietnam) would likely lead to a continuation or recurrence of dumping, countervailable subsidies, and material injury to an industry in the United States, Commerce is publishing a notice of continuation of these AD and CVD orders.

DATES: Applicable October 17, 2024.

FOR FURTHER INFORMATION CONTACT: Robert Bolling (China and Vietnam AD) or John Conniff (China CVD), AD/CVD Operations, Offices IV and III, Enforcement and Compliance, International Trade Administration, U.S. Department of Commerce, 1401 Constitution Avenue NW, Washington, DC 20030; telephone: (202) 482-3434, or (202) 482-1009, respectively.

SUPPLEMENTARY INFORMATION:

Background

On February 15, 2013, Commerce published in the Federal Register the AD orders on wind towers from China and Vietnam and the CVD order on wind towers from China.¹ On April 1, 2024, the ITC instituted its review of the Orders,² and Commerce initiated ³ the second sunset review of the Orders, pursuant to section 751(c) of the Tariff Act of 1930, as amended (the Act). As a result of its reviews, Commerce determined that revocation of the Orders would likely lead to continuation or recurrence of dumping and/or countervailable subsidies, and therefore, notified the ITC of the magnitude of the margins of dumping and net countervailable subsidy rates likely to prevail should the Orders be revoked.⁴

¹ See Utility Scale Wind Towers from the People's Republic of China: Antidumping Duty Order, 78 FR 11146 (February 15, 2013); Utility Scale Wind Towers from the Socialist Republic of Vietnam: Amended Final Determination of Sales at Less Than Fair Value and Antidumping Duty Order, 78 FR 11150 (February 15, 2013); and Utility Scale Wind Towers from the People's Republic of China: Countervailing Duty Order, 78 FR 11152 (February 15, 2013) (collectively, Orders).

² See Utility Scale Wind Towers from China and Vietnam; Institution of Five-Year Reviews, 89 FR 22445 (April 1, 2024).

³ See Initiation of Five-Year (Sunset) Reviews, 89 FR 22373 (April 1, 2024).

⁴ See Utility Scale Wind Towers from China and Vietnam: Final Results of the Expedited Second Sunset Review of the Antidumping Duty Orders, 89 FR 65585 (August 12, 2024), and accompanying Issues and Decision Memorandum (IDM); Utility Scale Wind Towers from the People's Republic of China: Final Results of Expedited Second Sunset Review of the Countervailing Duty Order, 89 FR 60603 (July 26, 2024), and accompanying IDM.

On October 17, 2024, the ITC published its determination, pursuant to sections 751(c) and 752(a) of the Act, that revocation of the Orders would likely lead to continuation or recurrence of material injury to an industry in the United States within a reasonably foreseeable time.⁵

⁵ See Utility Scale Wind Towers from China and Vietnam, 89 FR 83702 (October 17, 2024) (ITC Final Determination); see also Utility Scale Wind Towers from China and Vietnam: Investigation Nos. 701-TA-486 and 731-TA-1195-1196 (Second Review), USITC Publication 5553 (October 2024).

Scope of the Orders

The merchandise covered by the Orders are certain wind towers, whether or not tapered, and sections thereof. Certain wind towers are designed to support the nacelle and rotor blades in a wind turbine with a minimum rated electrical power generation capacity in excess of 100 kilowatts and with a minimum height of 50 meters measured from the base of the tower to the bottom of the nacelle (i.e., where the top of the tower and nacelle are joined) when fully assembled. A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with non-subject merchandise, such as nacelles or rotor blades, and whether or not they have internal or external components attached to the subject merchandise.

Specifically excluded from the scope are nacelles and rotor blades, regardless of whether they are attached to the wind tower. Also excluded are any internal or external components which are not attached to the wind towers or sections thereof.

Merchandise covered by the Orders is currently classified in the Harmonized Tariff System of the United States (HTSUS) under subheadings 7308.20.0020 or 8502.31.0000. Prior to 2011, merchandise covered by the Orders was classified in the HTSUS under subheading 7308.20.0000 and may continue to be to some degree. While the HTSUS subheadings are provided for convenience and customs purposes, the written description of the subject merchandise is dispositive.

Continuation of the Orders

As a result of the determinations by Commerce and the ITC that revocation of the Orders would likely lead to a continuation or recurrence of dumping, countervailable subsides, and material injury to an industry in the United States, pursuant to section 751(d)(2) of the Act and 19 CFR 351.218(a), Commerce hereby orders the continuation of the Orders on wind towers from China and Vietnam. U.S. Customs and Border Protection will continue to collect AD and CVD cash deposits at the rates in effect at the time of entry for all imports of subject merchandise.

The effective date of the continuation of the Orders will be October 17, 2024. Pursuant to section 751(c)(2) of the Act and 19 CFR 351.218(c)(2), Commerce intends to initiate the next five-year review of the Orders no later than 30 days prior to the fifth anniversary of the date of the last determination by the ITC.

Administrative Protective Order (APO)

This notice also serves as the only reminder to parties subject to an APO of their responsibility concerning the return, destruction, or conversion to judicial protective order of proprietary information disclosed under APO in accordance with 19 CFR 351.305(a)(3). Timely written notification of the return or destruction of APO materials or conversion to judicial protective order is hereby requested. Failure to comply is a violation of the APO which may be subject to sanctions.

Notification to Interested Parties

These five-year sunset reviews and this notice are in accordance with sections 751(c) and 751(d)(2) of the Act and published pursuant to section 777(i)(1) of the Act and 19 CFR 351.218(f)(4).

Dated: October 24, 2024.
Ryan Majerus,
Deputy Assistant Secretary for Policy and Negotiations, performing the non-exclusive functions and duties of the Assistant Secretary for Enforcement and Compliance.

[FR Doc. 2024-25230 Filed 10-29-24; 8:45 am]

BILLING CODE 3510-DS-P